DEPARTMENT OF LABOR

Employment and Training Administration

[TA-W-71,841]

Vital Signs Minnesota, Inc., Including Workers Whose Unemployment Insurance (UI) Wages Are Paid Through Biomedical Dynamics Corporation, Including On-Site Leased Workers From Masterson Personnel and MRCI Worksource, Burnsville, MN; Amended Certification Regarding Eligibility To Apply for Worker Adjustment Assistance

In accordance with section 223 of the Trade Act of 1974, as amended (“Act”), 19 U.S.C. 2273, the Department of Labor issued a Certification of Eligibility To Apply for Worker Adjustment Assistance on October 1, 2009, applicable to workers of Vital Signs Minnesota, Inc., Burnsville, Minnesota. The notice was published in the Federal Register on November 17, 2009 (74 FR 59253).

At the request of the State, the Department reviewed the certification for workers of the subject firm. The workers are engaged in the production of blood pressure cuffs.

New information shows that workers separated from employment at Vital Signs Minnesota, Inc. had their wages reported under a separate unemployment insurance (UI) tax account under the name Biomedical Dynamics Corporation.

Accordingly, the Department is amending this certification to property reflect this matter.

The intent of the Department's certification is to include all workers of the subject firm who were adversely affected by a shift in production of automation design and build components.

The amended notice applicable to TA-W-71,841 is hereby issued as follows:

All workers of Vital Signs Minnesota, Inc., including workers whose unemployment insurance (UI) wages are paid through Biomedical Dynamics Corporation, including on-site leased workers of Masterson Personnel and MRCI Workforce, Burnsville, Minnesota, who became totally or partially separated from employment on or after July 29, 2008, through October 1, 2011, and all workers in the group threatened with total or partial separation from employment on date of certification through two years from the date of certification, are eligible to apply for adjustment assistance under Chapter 2 of Title II of the Trade Act of 1974, as amended.

Signed at Washington, DC, this 21st day of April 2010.
Elliott S. Kushner,
Certifying Officer, Division of Trade Adjustment Assistance.

[FR Doc. 2010-9926 Filed 4-28-10; 8:45 am]

BILLING CODE 4510-FN-P